DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2016 Government Units Survey.

OMB Control Number: 0607-0930.

Form Number(s): GUS-1.

Type of Request: Reinstatement, with change, of an expired collection.

Number of Respondents: 77,000.

Average Hours per Response: 15 minutes.

Burden Hours: 19,250.

Needs and Uses: This information request covers the questionnaire needed to conduct the directory survey component of the 2017 Census of Governments. The 2016 Government Units Survey (GUS) will be used to update the universe list of public sector entities for the 2017 Census of Governments. Each of the estimated 77,000 non-school governments will be sent a questionnaire. Respondents will be encouraged to respond to the survey on the Internet but will have the option to answer the questions and return the questionnaire by paper mail. Respondents will be asked to verify or correct the name and mailing address of the government and answer five questions to complete the survey.

The GUS is mailed to all municipalities, townships, counties, and special districts. The 2011 GUS, conducted in advance of the 2012 Census of Governments, consisted of nine broad content areas: Background information, debt, license and permit fees, taxes, retirement/pension plan, government activity, public services, judicial or legal activities, and finance. The 2016 GUS will differ from the former version by shortening the number of content areas. The 2016 GUS consists of only two broad content areas: Background and employee information. Both the 2011 and 2016 GUS also include(d) both remarks and contact information sections. The first content area for the 2016 GUS consists predominately of yes/no questions and is designed to determine the existence of a government. The employees section of the questionnaire requests the number of paid employees of a government. A notice published in the Federal Register on April 1, 2015 stated our intent to ask respondents detailed questions on defined-contribution plans, defined-benefit and post-employment healthcare plans. However, we will not be asking these questions for this collection.

The GUS serves multiple purposes. The GUS will be used to obtain descriptive information on the basic characteristics of governments; to identify and delete inactive units from the official list of public entities maintained by the Census Bureau; to identify file duplicates and units that were dependent on other governments; to update and verify the mailing addresses of governments; and to produce the official count of non-school government units in the United States.

Federal legislation relevant to the American workforce, the Fair Labor Standards Act (FLSA) and the Family Medical Leave Act, refer to the list of governments maintained by the Census Bureau for purposes of administering provisions of these laws. The Bureau of Justice Statistics maintains an interest in the list of active governments and their activities for purposes of administering grant programs. The Bureau of Economic Analysis (BEA) uses the products of the Census of Governments including the counts of state and local governments; and state and local government employment and payroll data. BEA also uses revenue, expenditures, debt, and financial assets data from the Census of Governments for principal inputs to the local government portion of their Gross Domestic Product publication. In addition, users from academia, research organizations, governments, public interest groups, and various businesses provide evidence of their interest through requests for information and requests for assistance in accessing universe information available on the Census Bureau Internet Web site.

Affected Public: State, local or tribal government.

Frequency: Every 5 years.

Respondent's Obligation: Voluntary.

Legal Authority: Title 13 U.S.C., Sections 161 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: September 8, 2015.
Glenna Mickelson,
Management Analyst, Office of the Chief Information Officer.

[FR Doc. 2015-22958 Filed 9-11-15; 8:45 am]

BILLING CODE 3510-07-P